DEPARTMENT OF AGRICULTURE

Animal and Plant Health Inspection Service

[Docket No. 03-112-2]

Vaccination of Wild Bison; Availability of an Environmental Assessment and Finding of No Significant Impact

AGENCY: Animal and Plant Health Inspection Service, USDA.

ACTION: Notice of availability and request for comments; reopening of comment period.

SUMMARY: We are reopening the comment period for an environmental assessment and finding of no significant impact that we prepared relative to the subcutaneous vaccination of wild, free-ranging bison in the Greater Yellowstone Area with Strain RB51 vaccine to help prevent the spread of brucellosis. The environmental assessment documents our review and analysis of environmental impacts associated with the vaccination and provides a basis for our conclusion that vaccination of the bison will not have a significant impact on the quality of the human environment. This action will allow interested persons additional time to prepare and submit comments.

DATES: We will consider all comments that we receive on or before January 20, 2004.

ADDRESSES: You may submit comments by postal mail/commercial delivery or by e-mail. If you use postal mail/commercial delivery, please send four copies of your comment (an original and three copies) to: Docket No. 03-112-1, Regulatory Analysis and Development, PPD, APHIS, Station 3C71, 4700 River Road Unit 118, Riverdale, MD 20737-1238. Please state that your comment refers to Docket No. 03-112-1. If you use e-mail, address your comment to regulations@aphis.usda.gov. Your comment must be contained in the body of your message; do not send attached files. Please include your name and address in your message and “Docket No. 03-112-1” on the subject line.

To obtain copies of the environmental assessment and finding of no significant impact, contact the National Center for Animal Health Programs, Veterinary Services, APHIS, 4700 River Road Unit 43, Riverdale, MD 20737-1231; (301) 734-4923. The documents are also available on the Internet at http://www.aphis.usda.gov/ppd/es/vsdocs.html.

You may also read the environmental assessment and finding of no significant impact, and any comments we receive on those documents, in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Arnold Gertonson, Yellowstone Brucellosis Coordinator, National Center for Animal Health Programs, VS, APHIS, Building B MSC 3E13, 2150 Centre Avenue, Fort Collins, CO 80526-8117; (970) 494-7363.

SUPPLEMENTARY INFORMATION:

Background

On December 5, 2003, we published in the Federal Register (68 FR 68020-68021, Docket No. 03-112-1) a notice that the Animal and Plant Health Inspection Service (APHIS) had completed an environmental assessment (EA) that examines the potential environmental effects of APHIS's involvement in a program to be initiated by the Montana Department of Livestock to vaccinate certain bison against brucellosis with Strain RB51 vaccine. The animals to be vaccinated are wild, free-ranging bison calves and non-pregnant yearlings that leave Yellowstone National Park and migrate onto State, private, or other Federal lands. Our review and analysis are documented in detail in an EA entitled “Subcutaneous Vaccination of Wild, Free-Ranging Bison in the Greater Yellowstone Area; Environmental Assessment (November 2003).” Based on that EA, APHIS has determined that subcutaneous vaccination of wild, free-ranging bison of the Greater Yellowstone Area with Strain RB51 vaccine will not significantly impact human health or the environment. That determination is set forth in a document titled “Finding of No Significant Impact for Subcutaneous Vaccination of Wild, Free-Ranging Bison in the Greater Yellowstone Area; Environmental Assessment (November 2003).”

Comments on the EA and finding of no significant impact (FONSI) were required to be received on or before January 5, 2004. To provide for the submission of comments for an additional 15 days beyond that date, we are reopening the comment period on the EA and FONSI until January 20, 2004. This action will allow interested persons additional time to prepare and submit comments. We will also consider all comments received between January 6, 2004 (the day after the close of the original comment period) and the date of this notice.

Done in Washington, DC, this 7th day of January, 2004.
Kevin Shea,
Acting Administrator, Animal and Plant Health Inspection Service.

[FR Doc. 04-735 Filed 1-13-04; 8:45 am]

BILLING CODE 3410-34-P